COMMISSION ON CIVIL RIGHTS

Notice of Public Meeting of the New York Advisory Committee; Correction

AGENCY: Commission on Civil Rights.

ACTION: Notice; revision to agenda.

SUMMARY: The Commission on Civil Rights published a notice in the Federal Register on Thursday, May 18, 2023, concerning a meeting of the New York Advisory Committee. The items on the agenda should be arranged in the following order:

I. Welcome and Roll Call

II. Approval of Minutes

III. Public Comment

IV. Briefing Planning and Panelist Selection Vote

V. Next Steps

VI. Adjournment

FOR FURTHER INFORMATION CONTACT: Mallory Trachtenberg, DFO, at mtrachtenberg@usccr.gov or 1-202-809-9618.

Correction

In the Federal Register on Thursday, May 18, 2023, in FR Document Number 2023-10677, on page 31675, the second column, please arrange the agenda items in the following order:

I. Welcome and Roll Call

II. Approval of Minutes

III. Public Comment

IV. Briefing Planning and Panelist Selection Vote

V. Next Steps

VI. Adjournment

Dated: June 6, 2023.
David Mussatt,
Supervisory Chief, Regional Programs Unit.

[FR Doc. 2023-12425 Filed 6-9-23; 8:45 am]

BILLING CODE P